DEPARTMENT OF COMMERCE

National Oceanic and Atmospheric Administration

Marine Protected Areas Federal Advisory Committee; Public Meeting

AGENCY: Office of National Marine Sanctuaries (ONMS), National Ocean Service (NOS), National Oceanic and Atmospheric Administration (NOAA), Department of Commerce (DOC).

ACTION: Notice of open meeting.

SUMMARY: Notice is hereby given of a virtual meeting of the Marine Protected Areas Federal Advisory Committee (MPA FAC) via teleconference.

DATES: The meeting will be held on Wednesday, September 19, 2018, from 11:00 a.m. to 12:30 p.m. Pacific Time (2:00 p.m. to 3:30 p.m. Eastern Time). These times and the agenda topics described below are subject to change. Please refer to the Committee's webpage for the most up-to-date meeting agenda. http://marineprotectedareas.noaa.gov/fac.

ADDRESSES: The meeting will be held virtually via teleconference. Register by contacting Nicole Capps at Nicole.Capps@noaa.gov or 831-647-6451 at least one working day in advance of the meeting.

FOR FURTHER INFORMATION CONTACT: Charles M. Wahle, Ph.D., Designated Federal Officer, MPA FAC, National Marine Protected Areas Center, 99 Pacific St., Suite 100-F, Monterey, CA 93940. (Phone: 831-647-6460; Fax: 831-647-1732; email: charles.wahle@noaa.gov; or visit the National MPA Center website at http://marineprotectedareas.noaa.gov/fac).

SUPPLEMENTARY INFORMATION: The Committee, composed of external, knowledgeable representatives of stakeholder groups, was established by the Department of Commerce (DOC) to provide advice to the Secretaries of Commerce and the Interior on implementation of Section 4 of Executive Order 13158, on marine protected areas (MPAs). The MPA FAC was continued via Presidential Executive Order on September 29, 2017. The meeting is open to the public, and public comment will be accepted from 12:15 p.m. to 12:30 p.m. Pacific Time on Wednesday, September 19, 2018. In general, each individual or group will be limited to a total time of three (3) minutes. If members of the public wish to submit written statements, they should be submitted to the Designated Federal Officer by Friday, September 14, 2018.

Matters to be Considered: This meeting will focus on: (i) Approving the Committee's final findings and recommendations on Sustaining MPA Benefits in a Changing Ocean; and, (ii) approving updates to the Cultural Resources Toolkit developed previously by the Committee and published on the MPA Center website (https://marineprotectedareas.noaa.gov/toolkit/). The agenda is subject to change. The latest version will be posted at http://marineprotectedareas.noaa.gov/fac.

Dated: June 14, 2018.
John A. Armor,
Director, Office of National Marine Sanctuaries, National Ocean Service, National Oceanic and Atmospheric Administration.

[FR Doc. 2018-15340 Filed 7-17-18; 8:45 am]

BILLING CODE 3510-NK-P